DEPARTMENT OF HOUSING AND URBAN DEVELOPMENT

[Docket No. FR 5481-N-16]

Notice of Proposed Information Collection: Comment Request; Annual Progress Reports for Empowerment Zones

AGENCY: Office of Community Planning and Development, HUD.

ACTION: Notice.

SUMMARY: The proposed information collection requirement described below will be submitted to the Office of Management and Budget (OMB) for review, as required by the Paperwork Reduction Act. The Department is soliciting public comments on the subject proposal.

DATES: Comments Due Date: December 2, 2011.

ADDRESSES: Interested persons are invited to submit comments regarding this proposal. Comments should refer to the proposal by name and/or OMB Control Number and should be sent to: Colette Pollard, Departmental Reports Management Officer, QDAM, Department of Housing and Urban Development, 451 Seventh Street, SW., Room 4160, Washington, DC 20410; telephone: 202-708-0306, (this is not a toll-free number) or e-mail Ms. Pollard at Colette.Pollard@Hud.Gov for a copy of the proposed form and other available information.

FOR FURTHER INFORMATION CONTACT: Judith Mize, Office of Community Renewal, Office of Community Planning and Development, Department of Housing and Urban Development, 451 Seventh Street, SW., Washington, DC 20410; telephone (202) 402-4167 (this is not a toll-free number).

SUPPLEMENTARY INFORMATION: The Department will submit the proposed information collection to OMB for review, as required by the Paperwork Reduction Act of 1995 (44 U.S.C. Chapter 35, as amended).

This Notice is soliciting comments from members of the public and affected agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of proposal: Annual Progress Reports for Empowerment Zones.

OMB Control Number: 2506-0148.

Description of the need for the information and proposed use: This is an information collection for reporting requirements of 30 Urban Empowerment Zones (EZs). HUD will regularly evaluate the progress of implementation of the strategic plan in each designated Empowerment Zone (Rounds I, II and III) as required by HUD's regulations (24 CFR 597.400 and 24 CFR 598.415). The information submitted will enable HUD to assess performance of designees and the effectiveness of the Empowerment Zone Initiative.

Agency form numbers, if applicable:

Members of affected public: State or local governments.

Estimation of the total number of hours needed to prepare the information collection including number of respondents, frequency of response, and hours of response:

Paperwork requirement | Number of respondents | Frequency of response | Annual responses | Hours per response | Burden hours
Annual Reports:
Round I EZs | 7 | 2 | 7 | 10 | 70
Round II EZs | 15 | 15 | 15 | 10 | 150
Round III EZs | 8 | 2 | 8 | 10 | 80
Response to a letter of warning | 0 | 2 |  | 4 | 8
Total | 30 |  | 30 |  | 308

Frequency of submission: Periodically and annually.

Status of the proposed information collection: Extension of a currently approved collection.

Authority: section 3506 of the Paperwork Reduction Act of 1995, 44 U.S.C. Chapter 35, as amended.

Dated: September 22, 2011.
Clifford Taffet,
General Deputy Assistant Secretary for Community Planning and Development.

[FR Doc. 2011-25411 Filed 9-30-11; 8:45 am]

BILLING CODE 4210-67-P